DEPARTMENT OF HOMELAND SECURITY

Federal Emergency Management Agency

[Docket ID FEMA-2019-0002; Internal Agency Docket No. FEMA-B-1960]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Mesa (19-09-0940P) | The Honorable John Giles, Mayor, City of Mesa, P.O. Box 1466, Mesa, AZ 85211 | City Hall Engineering Department, 20 East Main Street, #500, Mesa, AZ 85201 | https://msc.fema.gov/portal/advanceSearch | Dec. 30, 2019 | 040048
Santa Cruz | Unincorporated Areas of Santa Cruz County (19-09-1888P) | The Honorable Rudy Molera, Chairman, Board of Supervisors, Santa Cruz County, 2150 North Congress Drive, Nogales, AZ 85621 | Santa Cruz County Flood Control District, Gabilondo-Zehentner Building, 275 Rio Rico Drive, Rio Rico, AZ 85648 | https://msc.fema.gov/portal/advanceSearch | Dec. 16, 2019 | 040090
California:
Kern | City of Delano (17-09-2119P) | The Honorable Joe E. Aguirre, Mayor, City of Delano, 1015 11th Avenue, Delano, CA 93215 | Community Development, 1015 11th Avenue, Delano, CA 93215 | https://msc.fema.gov/portal/advanceSearch | Dec. 12, 2019 | 060078
Kern | Unincorporated Areas of Kern County (17-09-2119P) | The Honorable David Couch, Chairman, Board of Supervisors, Kern County, 1115 Truxtun Avenue, 5th Floor, Bakersfield, CA 93301 | Kern County Planning Department, 2700 M Street, Suite 100, Bakersfield, CA 93301 | https://msc.fema.gov/portal/advanceSearch | Dec. 12, 2019 | 060075
Santa Clara | City of Santa Clara (19-09-0759P) | The Honorable Lisa M. Gillmor, Mayor, City of Santa Clara, 1500 Warburton Avenue, Santa Clara, CA 95050 | Planning and Inspection Department, 1500 Warburton Avenue, Santa Clara, CA 95050 | https://msc.fema.gov/portal/advanceSearch | Dec. 19, 2019 | 060350
Florida: St. Johns | Unincorporated Areas of St. Johns County (19-04-4306P) | The Honorable Paul M. Waldron, Chair, Board of County Commissioners, St. Johns County Administration Building, 500 San Sebastian View, St. Augustine, FL 32084 | St. Johns County Permit Center, 4040 Lewis Speedway, St. Augustine, FL 32084 | https://msc.fema.gov/portal/advanceSearch | Dec. 19, 2019 | 125147
Idaho: Canyon | City of Nampa (19-10-0247P) | The Honorable Debbie Kling, Mayor, City of Nampa, 411 3rd Street South, Nampa, ID 83651 | City Hall, 411 3rd Street South, Nampa, ID 83651 | https://msc.fema.gov/portal/advanceSearch | Dec. 11, 2019 | 160038
Illinois:
St. Clair | City of O'Fallon (18-05-3948P) | The Honorable Herb Roach, Mayor, City of O'Fallon, 255 South Lincoln Avenue, O'Fallon, IL 62269 | City Hall, 255 South Lincoln Avenue, O'Fallon, IL 62269 | https://msc.fema.gov/portal/advanceSearch | Dec. 20, 2019 | 170633
St. Clair | Unincorporated Areas of St. Clair County (18-05-3948P) | The Honorable Mark Kern, Chairman, St. Clair County Board, 10 Public Square, Belleville, IL 62220 | St. Clair County Courthouse, 10 Public Square, Belleville, IL 62220 | https://msc.fema.gov/portal/advanceSearch | Dec. 20, 2019 | 170616
Iowa:
Polk | City of Grimes (18-07-2087P) | The Honorable Scott Mikkelsen, Mayor, City of Grimes, City Hall, 101 Northeast Harvey Street, Grimes, IA 50111 | City Hall, 101 Northeast Harvey Street, Grimes, IA 50111 | https://msc.fema.gov/portal/advanceSearch | Dec. 6, 2019 | 190228
Polk | City of Urbandale (18-07-2087P) | The Honorable Bob Andeweg, Mayor, City of Urbandale, City Hall, 3600 86th Street, Urbandale, IA 50322 | City Hall, 3600 86th Street, Urbandale, IA 50322 | https://msc.fema.gov/portal/advanceSearch | Dec. 6, 2019 | 190230
Kansas:
Shawnee | City of Topeka (19-07-0967P) | The Honorable Michelle De La Isla, Mayor, City of Topeka, 215 Southeast 7th Street, Room 350, Topeka, KS 66603 | Engineering Division, 620 Southeast Madison Street, Topeka, KS 66603 | https://msc.fema.gov/portal/advanceSearch | Dec. 24, 2019 | 205187
Shawnee. | Unincorporated Areas of Shawnee County (19-07-0967P) | Mr. Bob Archer, Chairperson, Shawnee County Board of Commissioners, 200 Southeast 7th Street B-11, Topeka, KS 66603 | Shawnee County Engineers Office, 1515 Northwest Saline Street, Topeka, KS 66618 | https://msc.fema.gov/portal/advanceSearch | Dec. 24, 2019 | 200331
Missouri: Jackson | City of Lee's Summit (19-07-0788P) | The Honorable Bill Baird, Mayor, City of Lee's Summit, 220 Southeast Green Street, Lee's Summit, MO 64063 | Mayor's Office, 220 Southeast Green Street, Lee's Summit, MO 64063 | https://msc.fema.gov/portal/advanceSearch | Dec. 19, 2019 | 290174
New Jersey: Passaic | Borough of Woodland Park (19-02-0818P) | The Honorable Keith Kazmark, Mayor, Borough of Woodland Park, Municipal Building, 5 Brophy Lane, Woodland Park, NJ 07424 | Municipal Building, Code Enforcement Office, 5 Brophy Lane, Woodland Park, NJ 07424 | https://msc.fema.gov/portal/advanceSearch | Dec. 13, 2019 | 340412
Ohio:
Franklin | Unincorporated Areas of Franklin County (19-05-3292P) | Mr. John O'Grady Commissioner, Franklin County Board of Commissioners, 373 South High Street, 26th Floor, Columbus, OH 43215 | Franklin County Engineer Office, 970 Dublin Road, Columbus, OH 43215 | https://msc.fema.gov/portal/advanceSearch | Dec. 20, 2019 | 390167
Warren. | City of Springboro (19-05-2468P) | The Honorable John Agenbroad, Mayor, City of Springboro, 320 West Central Avenue, Springboro, OH 45066 | Municipal Building, 320 West Central Avenue, Springboro, OH 45066 | https://msc.fema.gov/portal/advanceSearch | Dec. 12, 2019 | 390564
Texas: Tarrant | City of Arlington (18-06-3754P) | The Honorable Jeff Williams, Mayor, City of Arlington, City Hall, P.O. Box 90231, Arlington, TX 76010 | City Hall, 101 West Abram Street, Arlington, TX 76010 | https://msc.fema.gov/portal/advanceSearch | Dec. 6, 2019 | 485454
Washington:
Jefferson | City of Port Townsend (19-10-0775P) | The Honorable Deborah Stinson, Mayor, City of Port Townsend, 250 Madison Street, Suite 2, Port Townsend, WA 98368 | City Hall, 250 Madison Street Suite 2, Port Townsend, WA 98368 | https://msc.fema.gov/portal/advanceSearch | Dec. 12, 2019 | 530070
Kitsap | Unincorporated Areas of Kitsap County (18-10-1595P) | The Honorable Ed Wolfe, Kitsap County Commissioner, District 3, 614 Division Street, MS-4, Port Orchard, WA 98366 | Kitsap County, Department of Community Development, 614 Division Street, MS-36, Port Orchard, WA 98366 | https://msc.fema.gov/portal/advanceSearch | Dec. 16, 2019 | 530092
Wyoming:
Natrona | City of Casper (18-08-0276P) | The Honorable Charlie Powell, Mayor, City of Casper, 200 North David Street, Room 203, Casper, WY 82601 | City Hall, 200 North David Street, Casper, WY 82601 | https://msc.fema.gov/portal/advanceSearch | Dec. 27, 2019 | 560037
Natrona | Unincorporated Areas of Natrona County (18-08-0276P) | Mr. Forrest Chadwick, Commissioner, Natrona County, 200 North Center Street, Suite 115, Casper, WY 82601 | Natrona County, Board of Commissioners, 200 North Center Street, Casper, WY 82601 | https://msc.fema.gov/portal/advanceSearch | Dec. 27, 2019 | 560036

[FR Doc. 2019-20481 Filed 9-20-19; 8:45 am]

BILLING CODE 9110-12-P